SMALL BUSINESS ADMINISTRATION

[Disaster Declaration #11393]

New Mexico Disaster Number NM-00009

AGENCY: U.S. Small Business Administration.

ACTION: Amendment 1.

SUMMARY: This is an amendment of the Presidential declaration of a major disaster for Public Assistance Only for the State of New Mexico (FEMA-1783-DR), dated 08/14/2008.

Incident: Severe Storms and Flooding.

Incident Period: 07/26/2008 through 08/20/2008.

Effective Date: 08/20/2008.

Physical Loan Application Deadline Date: 10/14/2008.

Economic Injury (EIDL) Loan Application Deadline Date: 05/14/2009.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of New Mexico, dated 08/14/2008, is hereby amended to establish the incident period for this disaster as beginning 07/26/2008 and continuing through 08/20/2008.

All other information in the original declaration remains unchanged.

(Catalog of Federal Domestic Assistance Number 59002 and 59008)

James E. Rivera,
Acting Associate Administrator for Disaster Assistance.

[FR Doc. E8-20452 Filed 9-3-08; 8:45 am]

BILLING CODE 8025-01-P